INTERNATIONAL TRADE COMMISSION

[Investigation Nos. 701-TA-462 and 731-TA-1156-1158 (Final)]

Polyethylene Retail Carrier Bags From Indonesia, Taiwan, and Vietnam

Determinations

On the basis of the record ¹ developed in the subject investigations, the United States International Trade Commission (Commission) determines, pursuant to section 705(b) of the Tariff Act of 1930 (19 U.S.C. 1671d(b)) (the Act), that an industry in the United States is threatened with material injury by reason of imports from Vietnam of polyethylene retail carrier bags (PRCBs), provided for in subheading 3923.21.00 of the Harmonized Tariff Schedule of the United States, that have been found by the Department of Commerce (Commerce) to be subsidized by the Government of Vietnam.² The Commission further determines, pursuant to section 735(b) of the Act (19 U.S.C. 1673d(b)), that an industry in the United States is threatened with material injury by reason of imports from Indonesia, Taiwan, and Vietnam of PRCBs that have been found by Commerce to be sold in the United States at less than fair value (LTFV).³ In addition, the Commission determines that it would not have found material injury but for the suspension of liquidation.

¹ The record is defined in sec. 207.2(f) of the Commission's Rules of Practice and Procedure (19 CFR 207.2(f)).

² Vice Chairman Daniel R. Pearson dissenting.

³ Vice Chairman Daniel R. Pearson dissenting.

Background

The Commission instituted these investigations effective March 31, 2009, following receipt of petitions filed with the Commission and Commerce by Hilex Poly Co., LLC, Hartsville, SC and Superbag Corp., Houston, TX. The final phase of these investigations was scheduled by the Commission following notification of preliminary determinations by Commerce that imports of PRCBs from Indonesia, Taiwan, and Vietnam were being sold at LTFV within the meaning of section 733(b) of the Act (19 U.S.C. 1673b(b)) and that imports of PRCBs from Vietnam were being subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of December 3, 2009 (74 FR 63410). The hearing was held in Washington, DC, on March 16, 2010, and all persons who requested the opportunity were permitted to appear in person or by counsel.

The Commission transmitted its determinations in these investigations to the Secretary of Commerce on April 26, 2010. The views of the Commission are contained in USITC Publication 4144 (April 2010), entitled Polyethylene Retail Carrier Bags from Indonesia, Taiwan, and Vietnam: Investigation Nos. 701-TA-462 and 731-TA-1156-1158 (Final).

Issued: April 27, 2010.
By order of the Commission.
Marilyn R. Abbott,
Secretary to the Commission.

[FR Doc. 2010-10114 Filed 4-29-10; 8:45 am]

BILLING CODE 7020-02-P